ENVIRONMENTAL PROTECTION AGENCY

[FRL-9165-4]

Science Advisory Board Staff Office Request for Nominations of Experts for a Nutrient Criteria Review Panel

AGENCY: Environmental Protection Agency (EPA).

ACTION: Notice of request for nominations.

SUMMARY: The Science Advisory Board (SAB) Staff Office is requesting public nominations of experts to form an SAB panel to review EPA's technical support document on development of numeric nutrient criteria for Florida's estuarine and coastal waters, and southern canals.

DATES: Nominations should be submitted by July 12, 2010 per instructions below.

FOR FURTHER INFORMATION CONTACT: Any member of the public wishing further information regarding this Request for Nominations may contact Ms. Stephanie Sanzone, Designated Federal Officer (DFO), EPA Science Advisory Board (1400F), 1200 Pennsylvania Avenue, NW., Washington, DC 20460; via telephone/voice mail (202) 343-9697; by fax at (202) 233-0643; or via e-mail at sanzone.stephanie@epa.gov. General information concerning the EPA Science Advisory Board can be found on the EPA SAB Web site at http://www.epa.gov/sab.

SUPPLEMENTARY INFORMATION:

The SAB was established by 42 U.S.C. 4365 to provide independent scientific and technical advice, consultation and recommendations to the EPA Administrator on the technical basis for Agency positions and regulations. The SAB Staff Office is forming an expert panel to review a draft technical support document (TSD) being developed by the Office of Water (OW). The draft TSD will describe methods and approaches for developing numeric nutrient criteria for Florida's estuarine and coastal waters, downstream protection values in streams to protect those waters, and criteria for flowing waters in the south Florida region (including canals). The Nutrient Criteria Review Panel will be asked to review and comment on the scientific validity of the Agency's draft TSD. The SAB panel will comply with the provisions of the Federal Advisory Committee Act (FACA) and all appropriate SAB procedural policies. Upon completion, the panel's report will be submitted to the chartered SAB for final approval for transmittal to the EPA Administrator.

Availability of the review materials: The EPA draft technical support document will be posted on the SAB Web site at http://yosemite.epa.gov/sab/sabproduct.nsf/fedrgstr_activites/FL%20Estuaries%20TSD?OpenDocument. For questions concerning the review materials, please contact Elizabeth Behl, at (202) 566-0788, or behl.betsy@epa.gov.

Request for nominations: The SAB Staff Office is requesting nominations of nationally and internationally recognized scientists with specialized expertise and research or management experience in: Assessing nutrient effects in freshwater, estuarine and coastal ecosystems; ecosystem dynamics; hydrodynamic modeling; and numerical approaches for deriving nutrient criteria for the protection of aquatic life. The specialized expertise and experience may be in one or more of the following disciplines: Biology; chemistry; biogeochemistry; ecology; limnology; oceanography; modeling; and statistics.

Process and deadline for submitting nominations: Any interested person or organization may nominate qualified individuals for possible service on the Nutrient Criteria Review Panel in the areas of expertise described above. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested.

EPA's SAB Staff Office requests: Contact information about the person making the nomination; contact information about the nominee; the disciplinary and specific areas of expertise of the nominee; the nominee's curriculum vita; sources of recent grants and/or contracts; and a biographical sketch of the nominee indicating current position, educational background, research activities, and recent service on other national advisory committees or national professional organizations.

Persons having questions about the nomination procedures, or who are unable to submit nominations through the SAB Web site, should contact Ms. Sanzone, DFO, as indicated above in this notice. Nominations should be submitted in time to arrive no later than July 12, 2010. EPA values and welcomes diversity. In an effort to obtain nominations of diverse candidates, EPA encourages nominations of women and men of all racial and ethnic groups.

The EPA SAB Staff Office will acknowledge receipt of nominations. The names and biosketches of qualified nominees identified by respondents to the Federal Register notice and additional experts identified by the SAB Staff will be posted on the SAB Web site at http://www.epa.gov/sab. Public comments on this List of Candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, may be influenced by work history and affiliation), and the collective breadth of experience to adequately address the charge. In establishing the Nutrient Criteria Review Panel, the SAB Staff Office will consider public comments on the list of candidates, information provided by the candidates themselves, and background information independently gathered by the SAB Staff Office. Selection criteria to be used for panel membership include: (a) Scientific and/or technical expertise, knowledge and experience (primary factors); (b) availability and willingness to serve; (c) absence of financial conflicts of interest; (d) absence of an appearance of a lack of impartiality; (e) skills working in advisory committees and panels for the Panel as a whole, and (f) diversity of and balance among scientific expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: “Overview of the Panel Formation Process at the Environmental Protection Agency Science Advisory Board” (EPA-SAB-EC-02-010), which is posted on the SAB Web site at http://www.epa.gov/sab/pdf/ec02010.pdf.

Dated: June 14, 2010.
Anthony Maciorowski,
Deputy Director, EPA Science Advisory Board Staff Office.

[FR Doc. 2010-14890 Filed 6-18-10; 8:45 am]

BILLING CODE 6560-50-P